DEPARTMENT OF THE INTERIOR

National Park Service

Notice of Intent to Repatriate a Cultural Item in the Possession of The Detroit Institute of Arts, Detroit, MI

AGENCY: National Park Service

ACTION: Notice

Notice is hereby given under the Native American Graves Protection and Repatriation Act, 43 CFR 10.10 (a)(3), of the intent to repatriate a cultural item in the possession of The Detroit Institute of Arts, Detroit, MI that, based on preponderance of the evidence, meets the definition of “object of cultural patrimony” under Section 2 of the Act.

This notice is published as part of the National Park Service's administrative responsibilities under NAGPRA, 43 CFR 10.2 (c). The determinations within this notice are the sole responsibility of the museum that has control of the cultural item. The National Park Service is not responsible for the determinations within this notice.

The 1 cultural item is a bear claw necklace composed of 30 grizzly bear claws separated by large, faceted blue glass beads attached to a foundation wrapped with trimmed otter fur.

During the 1950's, according to documentation and oral testimony, this cultural item passed through the possession of the Lyons Pawn Shop, Pawnee, OK; the Southern Plains Indian Museum and Crafts Center, Anadarko, OK; Mr. Warner, Oklahoma City, OK; Mr. Milford Chandler, Detroit, MI; and Mr. Richard Pohrt, Flint, MI. In 1981, The Detroit Institute of Arts purchased this bear claw necklace from Mr. Pohrt.

Based on consultation and documentary evidence provided by historic photographs and newspaper accounts, this bear claw necklace is known to have been in the possession of Mr. James White Cloud (born 1841-died 1940), a tribal chief of the Iowa Tribe of Kansas and Nebraska. Documentation also indicates that this necklace was used in 1940 during the installation of Mr. Louis White Cloud, son and successor of Mr. James White Cloud, as chief of the Iowa Tribe of Kansas and Nebraska. Further documentation also indicates that in 1952, this necklace was withheld by Mr. Daniel White Cloud, son and successor to Mr. Louis White Cloud, from the installation of Mr. James Rhodd, elected chief of the Iowa Tribe of Kansas and Nebraska. Consultation evidence offered by a direct lineal descendant (now deceased) of Mr. James White Cloud argued that the necklace had been inherited through direct patrilineal descent through male members of the White Cloud family. Officials of The Detroit Institute of Arts do not believe that any direct patrilineal descendants of Mr. James White Cloud are now living. Consultation evidence provided by representatives of the Iowa Tribe of Kansas and Nebraska indicates that this bear claw necklace is a symbol of authority used by Iowa chiefs and, as such, passed down in installation ceremonies from chief to chief. Representatives of the Iowa Tribe of Kansas and Nebraska also state that this bear claw necklace has ongoing historical, traditional, and cultural importance central to the tribe itself, and could not have been alienated, appropriated, or conveyed by any individual. Since the Indian Reorganization Act of 1934 established the authority of the Iowa Tribe of Kansas and Nebraska to elect tribal chiefs, officials of The Detroit Institute of Arts believe a reasonable interpretation of the facts is that the Iowa Tribe of Kansas and Nebraska now possesses authority over traditional symbols of their tribal chiefs, the evidence of the necessity of direct patrilineal descent notwithstanding.

The Iowa Tribe of Kansas and Nebraska will have this bear claw necklace curated at an established museum until a tribal museum is established.

Based on the above-mentioned information, officials of The Detroit Institute of Arts believe that, pursuant to 43 CFR 10.2 (d)(4), this one cultural item has ongoing historical, traditional, and cultural importance central to the tribe itself, and could not have been alienated, appropriated, or conveyed by any individual. Officials of The Detroit Institute of Arts also have determined that, pursuant to 43 CFR 10.2 (e), there is a relationship of shared group identity that can be reasonably traced between this object of cultural patrimony and the Iowa Tribe of Kansas and Nebraska.

This notice has been sent to officials of the Iowa Tribe of Kansas and Nebraska and the Iowa Tribe of Oklahoma. Representatives of any other Indian tribe that believes itself to be culturally affiliated with this object of cultural patrimony should contact David W. Penney, Chief Curator, The Detroit Institute of Arts, 5200 Woodward Avenue, Detroit, MI 48202, telephone (313) 833-1432, before February 26, 2001. Repatriation of this object of cultural patrimony to the Iowa Tribe of Kansas and Nebraska may begin after that date if no additional claimants come forward.

Dated: January 15, 2001.
John Robbins,
Assistant Director, Cultural Resources Stewardship and Partnerships.

[FR Doc. 01-2346 Filed 1-25-01; 8:45 am]

BILLING CODE 4310-70-F